DEPARTMENT OF AGRICULTURE

Food and Nutrition Service

Agency Information Collection Activities: Proposed Collection; Comment Request—Community Eligibility Option Evaluation

AGENCY: Food and Nutrition Service (FNS), United States Department of Agriculture (USDA).

ACTION: Notice and request for comments.

SUMMARY: In accordance with the Paperwork Reduction Act of 1995, this notice invites the general public and other public agencies to comment on this proposed information collection. This collection is a new information collection for the Community Eligibility Option Evaluation.

DATES: Written comments on this notice must be received by January 30, 2012.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology. Comments may be sent to: John Endahl, Senior Program Analyst, Office of Research and Analysis, Food and Nutrition Service, USDA, 3101 Park Center Drive, Room 1004, Alexandria, VA 22302. Comments may also be submitted via fax to the attention of John Endahl at (703) 305-2576 or via email to john.endahl@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: To request more information on the proposed project or to obtain a copy of the data collection plans, contact John Endahl, Senior Program Analyst, Office of Research and Analysis, Food and Nutrition Service/USDA, 3101 Park Center Drive, Room 1004, Alexandria, VA 22302; Fax: (703) 305-2576; Email: john.endahl@fns.usda.gov.

SUPPLEMENTARY INFORMATION: Title: Community Eligibility Option Evaluation.

OMB Number: 0584-NEW.

Expiration Date of Approval: Not yet determined.

Type of Information Collection Request: New information collection.

Abstract: Section 104(a) of the Healthy, Hunger Free Kids Act (the Act) of 2010 provides the Community Eligibility Option (the CE Option) for Local Educational Authorities (LEAs) and schools, as an alternative to household applications for Free or Reduced Price meals. Under the CE Option, families are not required to submit applications for free or reduced-price meals, and schools are required to provide free meals to all students. The Act sets a reimbursement formula based on the percentage of students directly certified or otherwise approved without application (the Identified Student Percentage or ISP). The potential benefits are that more students participate, meals are more nutritious, and LEAs may experience reductions in administrative burden and errors. In order to understand how the CE Option is implemented, incentives and barriers for LEAs and schools, as well as the impacts on LEAs, schools and children, Congress has mandated that FNS conduct an evaluation of the CE Option. The objectives of the study are:

• To estimate the number of eligible LEAs and schools that do not choose the CE Option;

• To assess the barriers to participation in the CE Option in non-participating but eligible LEAs and schools;

• To describe the LEAs and schools participating in the CE Option;

• To examine the impacts of the CE Option on (1) Program integrity, (2) availability of School Breakfast Program, (3) nutritional quality of meals, (4) program participation by students, (5) program administration, (6) foodservice revenues and costs; and

• To provide input to FNS deliberations about the key parameters for the CE Option: The multiplier for determining the percentage of meals reimbursed at the free rate (currently 1.6 times the ISP) and the threshold value of the ISP for determining eligibility to implement the option.

The activities to be undertaken subject to this notice include:

• Interviews with State Child Nutrition (CN) Directors, LEA Foodservice Directors, School Cafeteria Managers, and School Administrators

• Telephone Survey of State CN Directors

• Web based Implementation Survey of LEA Foodservice Directors (participating, eligible non-participating, and near eligible)

• Participation, Enrollment, Attendance, and Revenue Web Survey of LEA Foodservice Directors

• Pre-visit LEA Foodservice Director Questionnaire

• Pre-visit School Information Questionnaire (School Cafeteria Managers)

• Menu Survey

• Data abstraction from certification records

• Cashier observations

• Meal counts and claims review

Affected Public: State and Local Governments.

Type of Respondents: 51 State CN Directors, 1400 LEA Foodservice Directors, 353 School Cafeteria Managers, and 125 School Administrators.

Estimated Total Number of Respondents: 1,929.

Frequency of Response: Each instrument will be administered once to each respondent with two exceptions. State CN Directors in seven of eleven States will be interviewed twice over the course of the study (once annually); State CN directors in four States will be interviewed once. School cafeteria managers will complete the Menu Survey on each day of the five-day site visit.

Estimated Annual Responses: 4,300.

Estimate of Time per Respondent and Annual Burden: Public reporting burden for this collection of information is estimated to average forty-five (45) minutes per State CN Director interview, ninety (90) minutes per LEA Foodservice Director interview, thirty (30) minutes per School Cafeteria Manager interview, and forty-five (45) minutes per School Administrator interview. Reporting burden is estimated at twenty (20) minutes per State CN Director telephone survey. Reporting burden is estimated at twenty-five (25) minutes per completed implementation web survey for the LEA Foodservice Directors and one hundred seventy (170) minutes per completed Participation, Enrollment, Attendance, and Revenue web survey for LEA Foodservice Directors. The reporting burden is estimated at ten (10) minutes per completed LEA Foodservice Director pre-visit questionnaire and fifteen (15) minutes per completed School Cafeteria Manager pre-visit questionnaire. Estimated reporting burden for Menu Surveys is forty-five (45) minutes per complete. The burden for the Data Abstraction Form/Certification Record Review Form is estimated at thirty (30) minutes per completed form and the Meal Counting and Claiming Review Form is estimated at forty-five (45) minutes per completed form. Estimated burden for the Meal and Cashier Observation form is 10 minutes per completed form. The initial sample in the School Community Eligibility Study includes 51 State CN Directors (with 11 completing interviews and survey, plus 40 completing survey only), 1,400 LEA Foodservice Directors, 353 School Cafeteria Managers, and 125 School Administrators. We expect responses from 45 State CN Directors, 1,120 LEA Foodservice Directors, 318 School Cafeteria Managers, and 100 School Administrators. The annual reporting burden is estimated at 2,573.5 hours (see table below).

Data collection activity | Respondents |  | Estimated number of respondents | Frequency of response | Estimated total annual reponses | Average burden hours per response (in hours) | Total annual burden estimate (in hours)
Implementation Study Interviews (telephone) | State CN Director | Completed | 11 | 1 to 2 ¹ | 18 | 0.75 | 13.5
|  | Attempted | 0 | 2 | 0 | 0.05 | 0
State Survey (telephone) | State CN Director | Completed | 45 | 1 | 45 | 0.33 | 15.0
|  | Attempted | 6 | 1 | 6 | 0.05 | 0.3
Implementation Web Survey | LEA Foodservice Directors | Completed | 1,120 | 1 | 1,120 | 0.42 | 470.4
|  | Attempted | 280 | 1 | 280 | 0.05 | 14.0
Participation, Enrollment, Attendance and Revenue Web Survey | LEA Foodservice Directors | Completed | 240 | 1 | 240 | 2.83 | 679.2
|  | Attempted | 60 | 1 | 60 | 0.05 | 3.0
Pre-visit LEA Questionnaire | LEA Foodservice Directors | Completed | 106 | 1 | 106 | 0.17 | 18.0
|  | Attempted | 27 | 1 | 27 | 0.05 | 1.4
Interviews | LEA Foodservice Directors | Completed | 106 | 1 | 106 | 1.50 | 159.0
|  | Attempted | 27 | 1 | 27 | 0.05 | 1.4
| School Cafeteria Managers | Completed | 318 | 1 | 318 | 0.5 | 159.0
|  | Attempted | 35 | 1 | 35 | 0.05 | 1.8
| School Administrators | Completed | 100 | 1 | 100 | 0.75 | 75.0
|  | Attempted | 25 | 1 | 25 | 0.05 | 1.3
Data Abstraction Form/Certification Record Review Form | LEA Foodservice Directors | Completed | 106 | 3 | 318 | 0.50 | 159.0
|  | Attempted | 0 | 1 | 0 | 0.05 | 0
Pre-visit School Information Questionnaire | School Cafeteria Managers | Completed | 156 | 1 | 156 | 0.25 | 39.0
|  | Attempted | 39 | 1 | 39 | 0.05 | 2.0
Menu Survey Booklet | School Cafeteria Managers | Completed | 156 | 5 | 780 | 0.75 | 585.0
|  | Attempted | 39 | 1 | 39 | 0.05 | 2.0
Meal and Cashier Observation Form | School Cafeteria Managers | Completed | 156 | 1 | 156 | 0.17 | 26.5
|  | Attempted | 39 | 1 | 39 | 0.05 | 2.0
Meal Counting and Claiming Review Form (School) | School Cafeteria Managers | Completed | 156 | 1 | 156 | 0.75 | 117.0
|  | Attempted | 39 | 1 | 39 | 0.05 | 2.0
Meal Counting and Claiming Review Form (LEA) | LEA Foodservice Directors | Completed | 52 | 1 | 52 | 0.50 | 26.0
|  | Attempted | 13 | 1 | 13 | 0.05 | 0.7
Total |  |  | 3,457 | − | 4,300 | 0.60 | 2573.5
¹ Seven States will complete twice, four States will complete once.

Dated: November 22, 2011.
Jeffrey J. Tribiano,
Acting Administrator, Food and Nutrition Service.

[FR Doc. 2011-30667 Filed 11-28-11; 8:45 am]

BILLING CODE 3410-30-P